DEPARTMENT OF COMMERCE

International Trade Administration

President's Export Council: Meeting of the President's Export Council

AGENCY: International Trade Administration, U.S. Department of Commerce.

ACTION: Notice of an Open Meeting.

SUMMARY: The President's Export Council will hold a meeting to deliberate on recommendations related to promoting the expansion of U.S. exports. Topics may include the Administration's “Doing Business in Africa” campaign, the need for nominations to the U.S. Export-Import Bank Board of Directors, a rapid response mechanism for sanitary and phytosanitary issues in the Trans-Pacific Partnership Agreement, an international services agreement, bilateral investment treaties, U.S.-Canada trade facilitation, the UNIDROIT Cape Town Convention on International Interests in Mobile Equipment, and workforce readiness. The final agenda will be posted at least one week in advance of the meeting on the President's Export Council Web site at http://trade.gov/pec.

DATES: March 12, 2013 at 9:30 a.m. (ET).

ADDRESSES: The President's Export Council meeting will be broadcast via live webcast on the Internet at http://whitehouse.gov/live.

FOR FURTHER INFORMATION CONTACT: Tricia Van Orden, Executive Secretary, President's Export Council, Room 4043, 1401 Constitution Avenue NW., Washington, DC 20230, telephone: 202-482-5876, email: tricia.vanorden@trade.gov.

SUPPLEMENTARY INFORMATION: Background: The President's Export Council was first established by Executive Order on December 20, 1973 to advise the President on matters relating to U.S. export trade and report to the President on its activities and on its recommendations for expanding U.S. exports. The President's Export Council was renewed most recently by Executive Order 13585 of September 30, 2011, for the two-year period ending September 30, 2013. This Committee is established in accordance with the provisions of the Federal Advisory Committee Act (FACA), as amended, 5 U.S.C. App.

Public Submissions: The public is invited to submit written statements to the President's Export Council by C.O.B. March 8, 2013 by either of the following methods:

Electronic Submissions

Submit statements electronically to Tricia Van Orden, Executive Secretary, President's Export Council via email: tricia.vanorden@trade.gov.

Paper Submissions

Send paper statements to Tricia Van Orden, Executive Secretary, President's Export Council, Room 4043, 1401 Constitution Avenue NW., Washington, DC 20230. Statements will be posted on the President's Export Council Web site (http://trade.gov/pec) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting.

Dated: February 21, 2013.
Tricia Van Orden,
Executive Secretary, President's Export Council.

[FR Doc. 2013-04381 Filed 2-22-13; 8:45 am]

BILLING CODE 3510-DR-P